Title 3—

The President

Memorandum of June 29, 2005

Assignment of Certain Functions Relating to

Telecommunications

Memorandum for the Director of the Office of Management and Budget

By virtue of the authority vested in me by the Constitution and the laws of the United States, including section 301 of title 3, United States Code, I hereby assign to you the functions of the President under section 414 of the Transportation, Treasury, Independent Agencies, and General Government Appropriations Act, 2005 (Division H of Public Law 108-447), and the authority to issue regulations to which section 414 refers.

You are authorized and directed to publish this memorandum in the Federal Register.

B

THE WHITE HOUSE,

Washington, June 29, 2005.

[FR Doc. 05-13487

Filed 7-6-05; 8:45 am]

Billing code 3110-01-P